ENVIRONMENTAL PROTECTION AGENCY

40 CFR Part 70

[EPA-R09-OAR-2022-0623; FRL-10031-03-R9]

Clean Air Act Operating Permit Program; California; San Diego County Air Pollution Control District; Correction

AGENCY: Environmental Protection Agency (EPA).

ACTION: Direct final rule; correction.

SUMMARY: On December 23, 2022, the Environmental Protection Agency (EPA) published a direct final rule in the Federal Register to approve revisions to the Clean Air Act (CAA or “Act”) Operating Permit Program (title V) of the San Diego County Air Pollution Control District (SDCAPCD or “District”) in California. In that rulemaking, the EPA included an incorrect effective date in Section VI of the document and in the instructions to amend the regulatory text. This document corrects the errors in the direct final rule.

DATES: This correction is effective February 21, 2023.

FOR FURTHER INFORMATION CONTACT: La Weeda Ward, Permits Office (Air-3-1), U.S. Environmental Protection Agency, Region IX, (213) 244-1812, ward.laweeda@epa.gov.

SUPPLEMENTARY INFORMATION: In our direct final rule published December 23, 2022 (87 FR 78871), the EPA included an incorrect effective date in the document and instructions to amend the regulatory text. We are correcting the effective date to the date 60 days after publication in the Federal Register because the language in 40 CFR 70.4(b)(11)(i) states that part 70 sources have one year to submit permit applications after the effective date of the permit program. Final rules from past actions in California match the effective date of the program with the effective date of the federal rule, as indicated by the amendatory instructions to change the regulatory text in 40 CFR part 70, appendix A. See, e.g., 68 FR 74871 (December 29, 2003) (a direct final rule), 68 FR 65637 (November 21, 2003), and 77 FR 54382 (September 5, 2012).

The direct final rule published on December 23, 2022 (87 FR 78871) matches the effective date of the program with the publication date of the rule, which would give sources less than one year from the program effective date to submit their applications. The following amendatory instructions correct the effective dates in Section VI and the regulatory text in FR Doc. 2022-27725 appearing on pages 78871-78874 in the Federal Register of Friday, December 23, 2022:

VI. Final Action [Corrected]

1. On page 78874, at the top of the first column, the text “If we do not receive timely adverse comments, this direct final approval will be effective without further notice on December 23, 2022.” is corrected to read “If we do not receive timely adverse comments, this direct final approval will be effective without further notice on February 21, 2023.”

Appendix A to Part 70—Approval Status of State and Local Operating Permits Programs [Corrected]

2. On page 78874, in the middle of the third column, the text “(6) The District adopted revisions on October 14, 2021. The California Air Resources Board submitted revisions to the EPA on January 24, 2022. Approval is effective on December 23, 2022.” is corrected to read “(6) The District adopted revisions on October 14, 2021. The California Air Resources Board submitted revisions to the EPA on January 24, 2022. Approval is effective on February 21, 2023.”

Dated: January 26, 2023.
Martha Guzman Aceves,
Regional Administrator, Region IX.

[FR Doc. 2023-02138 Filed 2-3-23; 8:45 am]

BILLING CODE 6560-50-P